DEPARTMENT OF EDUCATION

Application for New Awards; National Professional Development Program

AGENCY: Office of English Language Acquisition, Department of Education.

ACTION: Notice.

Overview Information:

National Professional Development Program.

Notice inviting applications for new awards for fiscal year (FY) 2017.

Catalog of Federal Domestic Assistance (CFDA) Number: 84.365Z.

DATES:

Applications Available: February 21, 2017.

Deadline for Notice of Intent to Apply: March 13, 2017.

Deadline for Transmittal of Applications: April 24, 2017.

Deadline for Intergovernmental Review: June 21, 2017.

Full Text of Announcement

I. Funding Opportunity Description

Purpose of Program: The National Professional Development (NPD) program, authorized by section 3131(c)(1)(C) of the Elementary and Secondary Education Act of 1965 as amended by the Every Student Succeeds Act (hereafter in this notice referred to as the ESEA), awards grants on a competitive basis, for a period of not more than five years, to institutions of higher education (IHEs) or public or private entities with relevant experience and capacity, in consortia with State educational agencies (SEAs) or local educational agencies (LEAs). The purpose of these grants is to provide professional development activities that will improve classroom instruction for English learners (ELs) and assist educational personnel working with such children to meet high professional standards, including standards for certification and licensure as teachers who work in language instruction educational programs or serve ELs.

Grants awarded under this program may be used—

(1) For effective pre-service or inservice professional development programs that will improve the qualifications and skills of educational personnel involved in the education of ELs, including personnel who are not certified or licensed and educational paraprofessionals, and for other activities to increase teacher and school leader effectiveness in meeting the needs of ELs;

(2) For the development of program curricula appropriate to the needs of the consortia participants involved;

(3) To support strategies that strengthen and increase parent, family, and community member engagement in the education of ELs;

(4) To develop, share, and disseminate effective practices in the instruction of ELs and in increasing the student academic achievement of ELs, including the use of technology-based programs;

(5) In conjunction with other Federal need-based student financial assistance programs, for financial assistance, including costs related to tuition, fees, and books for enrolling in courses required to complete the degree involved, to meet certification or licensing requirements for teachers who work in language instruction educational programs or serve ELs; and

(6) As appropriate, to support strategies that promote school readiness of ELs and their transition from early childhood education programs, such as Head Start or State-run preschool programs, to elementary school programs.

Background:

Educator effectiveness is the most important in-school factor affecting student achievement and success.¹ The NPD program is a Federal grant program that offers professional development specifically for educators of ELs. Through its competitions, the NPD program intends to improve the academic achievement of ELs by supporting pre-service and inservice practices for teachers and other staff, including school leaders, working with ELs.

¹ Calderón, M., Slavin, R., and Sánchez, M. (2011). Effective instruction for English learners. Future of Children, 21(1), 103-127.

Through previous competitions, the NPD program has funded a range of grantees that are currently implementing 121 projects across the country. As the EL population continues to grow, it has become increasingly important to identify and support practices implemented by educators of ELs that effectively improve student learning outcomes.

However, there are limited studies that provide evidence about how to best prepare and support educators of ELs in ways that will ultimately improve student learning and outcomes. The existing studies that the Department has identified typically do not meet the highest standards for rigor, and largely focus on professional development for in-service teachers; few focused on preparation for pre-service teachers.

Nonetheless, the body of evidence on effective language, literacy, and content instruction for ELs, including specific instructional practices for English language acquisition, is growing steadily, as documented by the 2014 What Works Clearinghouse (WWC) Practice Guide for teaching ELs, available at: http://ies.ed.gov/ncee/wwc/PracticeGuide.aspx?sid=19. To encourage the use of evidence to increase the effectiveness of projects funded by NPD, the Department has included a competitive preference priority for projects designed to improve academic outcomes for ELs using strategies supported by moderate evidence of effectiveness (as defined in this document).

In addition, in order to increase the body of evidence available to inform improved instruction for ELs, we encourage NPD applicants to propose projects that include a rigorous evaluation of proposed activities that, if well-implemented, would meet the WWC Evidence Standards with reservations. We believe that such evaluations will help ensure that projects funded under the NPD program are part of a learning agenda that expands the knowledge base on effective EL practices to ultimately enable all ELs to achieve postsecondary and career success.

For the FY 2017 NPD competition, the Department is particularly interested in supporting projects that improve parental, family, and community engagement. Literature suggests that educators who involve families in their children's education can strengthen their instructional effectiveness with ELs.2 3 Providing professional development that enhances educators' abilities to build meaningful relationships with students' families may also support students' learning at home. Accordingly, this notice includes a competitive preference priority related to improving parent, family, and community engagement.

² Chen, C., Kyle, D.W., and McIntyre, M. (2008). Helping teachers work effectively with English language learners and their families. The School Community Journal, 18 (1), 7-20.

³ Waterman, R. and Harry, B. (2008). Building Collaboration Between Schools and Parents of English Language Learners: Transcending Barriers, Creating Opportunities. Tempe, AZ: National Center for Culturally Responsive Educational Systems.

The Department is also interested in supporting dual language acquisition approaches that are effective in developing biliteracy skills. Evidence suggests that students who are biliterate have certain cognitive and social benefits compared to their monolingual peers. Further, recent research ⁴ suggests that despite initial lags, students in well-implemented dual language programs eventually perform equal to or better than their counterparts in English-only programs.

⁴ Valentino, R.A., and Reardon, S.F. (2015). Effectiveness of four instructional programs designed to serve English language learners: Variation by ethnicity and initial English proficiency. Educational Evaluation and Policy Analysis, doi: 10.3102/0162373715573310.

In addition, we recognize that linguistic and cultural diversity is an asset, and that dual language approaches may also enhance the preservation of heritage languages and cultures. These approaches may be particularly impactful for diverse populations of ELs, such as immigrant children and youth and Native American students.

Finally, we are interested in the development of the early learning workforce. In this competition, we encourage pre-service preparation for early learning educators so that they can successfully support ELs. Because the foundational knowledge of developmental learning and language acquisition skills applies across all levels of teaching ELs, including at the secondary level, we also encourage projects that will include this knowledge building for educators at all levels.

Priorities: This notice includes one absolute priority, two competitive preference priorities, and two invitational priorities. The absolute priority is from section 3131 of the ESEA (20 U.S.C. 6861). Competitive Preference Priority 1 is from 34 CFR 75.226. Competitive Preference Priority 2 is from the Department's notice of final supplemental priorities and definitions (Supplemental Priorities), published in the Federal Register on December 10, 2014 (79 FR 73425).

Absolute Priority: For FY 2017 and any subsequent year in which we make awards from the list of unfunded applicants from this competition, this priority is an absolute priority. Under 34 CFR 75.105(c)(3) we consider only applications that meet this priority.

This priority is:

Providing Professional Development to Improve Instruction for English Learners.

Under this priority we provide funding to projects that provide professional development activities that will improve classroom instruction for ELs and assist educational personnel working with ELs to meet high professional standards, including standards for certification and licensure as teachers who work in language instruction educational programs or serve ELs.

Competitive Preference Priorities: For FY 2017 and any subsequent year in which we make awards from the list of unfunded applications from this competition, these priorities are competitive preference priorities. Under 34 CFR 75.105(c)(2)(i), we award an additional five points to an application that meets competitive preference priority 1, and we award up to an additional five points to an application depending on how well the application meets competitive preference priority 2. An application may be awarded up to a maximum of 10 additional points under these competitive preference priorities. Applicants may address none, one, or both of the competitive preference priorities. An applicant must clearly identify in the project abstract and the project narrative section of its application the competitive preference priority or priorities it wishes the Department to consider for purposes of earning competitive preference priority points.

These priorities are:

Competitive Preference Priority 1—Moderate Evidence of Effectiveness (0 or 5 points).

Projects that are supported by moderate evidence of effectiveness (as defined in this notice).

Competitive Preference Priority 2—Improving Parent, Family, and Community Engagement (up to 5 points).

Projects that are designed to improve student outcomes through one or more of the following:

(a) Developing and implementing systemic initiatives (as defined in this notice) to improve parent and family engagement (as defined in this notice) by expanding and enhancing the skills, strategies, and knowledge (including techniques or use of technological tools needed to effectively communicate, advocate, support, and make informed decisions about the student's education) of parents and families.

(b) Providing professional development that enhances the skills and competencies of school or program leaders, principals, teachers, practitioners, or other administrative and support staff to build meaningful relationships with students' parents or families through systemic initiatives (as defined in this notice) that may also support students' learning at home.

(c) Implementing initiatives that improve community engagement (as defined in this notice), the relationships between parents or families and school or program staff by cultivating sustained partnerships (as defined in this notice).

Invitational Priorities: For FY 2017 and any subsequent year in which we make awards from the list of unfunded applicants from this competition, these priorities are invitational priorities. Under 34 CFR 75.105(c)(1) we do not give an application that meets these invitational priorities a competitive or absolute preference over other applications.

Invitational Priority 1—Dual Language Approaches.

We encourage applicants to propose projects to improve educator preparation and professional learning for dual language implementation models to support effective instruction for ELs. In particular, we encourage such approaches to take into account the unique needs of recently arrived limited English proficient students, immigrant children and youth, and Native American students, who are members of Federally recognized Indian tribes.

Invitational Priority 2—Supporting the Early Learning Workforce to Serve ELs and Apply the Same Developmental Learning Content to All Levels of Teacher Preparation.

We encourage applicants to propose projects that improve the quality and effectiveness of the early learning workforce, including administrators, so that they have the necessary knowledge, skills, and abilities to improve ELs' cognitive, health, social-emotional, and dual language development. Early learning programs are designed to improve early learning and development outcomes across one or more of the essential domains of school readiness (as defined in this notice) for children from birth through third grade (or for any age group within this range). Further, we encourage applicants to include in such projects these foundational professional learning domains for educators at all levels of teaching, including secondary preparation.

Definitions: The following definitions are from 34 CFR 77.1, 34 CFR 200.6, the Supplemental Priorities, sections 3201 and 8101 of the ESEA (20 U.S.C. 7011 and 7801), and section 101(a) of the Higher Education Act of 1965 (HEA) (20 U.S.C. 1001), and apply to the priorities and selection criteria in this notice. The source of each definition is noted in parentheses following the text of the definition.

Ambitious means promoting continued, meaningful improvement for program participants or for other individuals or entities affected by the grant, or representing a significant advancement in the field of education research, practices, or methodologies. When used to describe a performance target, whether a performance target is ambitious depends upon the context of the relevant performance measure and the baseline for that measure. (34 CFR 77.1)

Baseline means the starting point from which performance is measured and targets are set. (34 CFR 77.1)

Community engagement means the systematic inclusion of community organizations as partners with State educational agencies, local educational agencies, or other educational institutions, or their school or program staff to accomplish activities that may include developing a shared community vision, establishing a shared accountability agreement, participating in shared data-collection and analysis, or establishing community networks that are focused on shared community-level outcomes. These organizations may include faith- and community-based organizations, institutions of higher education (including minority-serving institutions eligible to receive aid under Title III or Title V of the Higher Education Act of 1965), businesses and industries, labor organizations, State and local government entities, or Federal entities other than the Department. (Supplemental Priorities)

English learner means an individual who is limited English proficient (LEP), which, by statute, means an individual—

(A) Who is aged 3 through 21;

(B) Who is enrolled or preparing to enroll in an elementary school or secondary school;

(C)(i) Who was not born in the United States or whose native language is a language other than English;

(ii)(I) Who is a Native American or Alaska Native, or a Native resident of the outlying areas; and

(II) Who comes from an environment where a language other than English has had a significant impact on the individual's level of English language proficiency; or

(iii) Who is migratory, whose native language is a language other than English, and who comes from an environment where a language other than English is dominant; and

(D) Whose difficulties in speaking, reading, writing, or understanding the English language may be sufficient to deny the individual—

(i) The ability to meet challenging State academic standards;

(ii) The ability to successfully achieve in classrooms where the language of instruction is English; or

(iii) The opportunity to participate fully in society. (Section 8101 of the ESEA)

Essential domains of school readiness means the domains of language and literacy development, cognition and general knowledge (including early mathematics and early scientific development), approaches toward learning (including the utilization of the arts), physical well-being and motor development (including adaptive skills), and social and emotional development. (Supplemental Priorities)

Immigrant children and youth means individuals who

(A) Are aged 3 through 21;

(B) Were not born in any State; and

(C) Have not been attending one or more schools in any one or more States for more than 3 full academic years. (Section 3201 of the ESEA)

Institution of higher education has the meaning given that term in Section 101(a) of the Higher Education Act of 1965.

Language instruction educational program means an instruction course—

(A) In which an English learner is placed for the purpose of developing and attaining English proficiency, while meeting challenging State academic standards; and,

(B) That may make instructional use of both English and a child's native language to enable the child to develop and attain English proficiency, and may include the participation of English proficient children if such course is designed to enable all participating children to become proficient in English and a second language. (Section 3201 of the ESEA)

Large sample means an analytic sample of 350 or more students (or other single analysis units), or 50 or more groups (such as classrooms or schools) that contain 10 or more students (or other single analysis units). (34 CFR 77.1)

Logic model (also referred to as theory of action) means a well-specified conceptual framework that identifies key components of the proposed process, product, strategy, or practice (i.e., the active “ingredients” that are hypothesized to be critical to achieving the relevant outcomes) and describes the relationships among the key components and outcomes, theoretically and operationally. (34 CFR 77.1.)

Moderate evidence of effectiveness means one of the following conditions is met:

(A) There is at least one study of the effectiveness of the process, product, strategy, or practice being proposed that meets the What Works Clearinghouse Evidence Standards without reservations, found a statistically significant favorable impact on a relevant outcome (with no statistically significant and overriding unfavorable impacts on that outcome for relevant populations in the study or in other studies of the intervention reviewed by and reported on by the What Works Clearinghouse), and includes a sample that overlaps with the populations or settings proposed to receive the process, product, strategy, or practice.

(B) There is at least one study of the effectiveness of the process, product, strategy, or practice being proposed that meets the What Works Clearinghouse Evidence Standards with reservations, found a statistically significant favorable impact on a relevant outcome (with no statistically significant and overriding unfavorable impacts on that outcome for relevant populations in the study or in other studies of the intervention reviewed by and reported on by the What Works Clearinghouse), includes a sample that overlaps with the populations or settings proposed to receive the process, product, strategy, or practice, and includes a large sample and a multi-site sample. (34 CFR 77.1) Note: Multiple studies can cumulatively meet the large and multi-site sample requirements as long as each study meets the other requirements in this paragraph.

Multi-site sample means more than one site, where site can be defined as an LEA, locality, or State. (34 CFR 77.1)

Parent and family engagement means the systematic inclusion of parents and families, working in partnership with SEAs, State lead agencies (under Part C of the Individuals with Disabilities Education Act (IDEA) or the State's Race to the Top-Early Learning Challenge grant), LEAs, or other educational institutions, or their staff, in their child's education, which may include strengthening the ability of (A) parents and families to support their child's education; and (B) school or program staff to work with parents and families. (Supplemental Priorities)

Recently arrived limited English proficient student is a student with limited English proficiency who has attended schools in the United States for less than twelve months. The phrase “schools in the United States” includes only schools in the 50 States and the District of Columbia. (34 CFR 200.6(b)(4)(iv))

Relevant outcome means the student outcome(s) (or the ultimate outcome if not related to students) the proposed process, product, strategy, or practice is designed to improve; consistent with the specific goals of a program. (34 CFR 77.1)

Strong theory means a rationale for the proposed process, product, strategy, or practice that includes a logic model (as defined in this notice). (34 CFR 77.1)

Note: Applicants may use resources such as the Pacific Education Laboratory's Education Logic Model Application (http://relpacific.mcrel.org/resources/elm-app) to help design their logic models.

Student achievement means—For grades and subjects in which assessments are required under section 1111(b)(3) of the ESEA: (1) A student's score on such assessments; and, as appropriate (2) other measures of student learning, such as those described in the subsequent paragraph, provided that they are rigorous and comparable across schools within an LEA.

For grades and subjects in which assessments are not required under section 1111(b)(3) of the ESEA: (1) Alternative measures of student learning and performance, such as student results on pre-tests, end-of-course tests, and objective performance-based assessments; (2) student learning objectives; (3) student performance on English language proficiency assessments; and (4) other measures of student achievement that are rigorous and comparable across schools within an LEA (Supplemental Priorities). Note: The ESEA's provisions on required academic assessment are, as a result of the ESEA's amendment by the Every Student Succeeds Act, found at section 1111(b)(2) rather than 1111(b)(3).

Sustained partnership means a relationship that has demonstrably adequate resources and other support to continue beyond the funding period and that consist of community organizations as partners with an LEA and one or more of its schools. These organizations may include faith- and community-based organizations, IHEs (including minority-serving institutions eligible to receive aid under title III or title V of the Higher Education Act of 1965), businesses and industries, labor organizations, State and local government entities, or Federal entities other than the Department. (Supplemental Priorities)

Systemic initiative means a policy, program, or activity that includes parent and family engagement as a core component and is designed to meet critical educational goals, such as school readiness, student achievement, and school turnaround. (Supplemental Priorities)

What Works Clearinghouse Evidence Standards means the standards set forth in the What Works Clearinghouse Procedures and Standards Handbook (Version 3.0, March 2014), which can be found at the following link: http://ies.ed.gov/ncee/wwc/DocumentSum.aspx?sid=19. (34 CFR 77.1)

Program Authority: 20 U.S.C. 6861.

Applicable Regulations: (a) The Education Department General Administrative Regulations (EDGAR) in 34 CFR parts 75, 77, 79, 81, 82, 84, 86, 97, 98, and 99. (b) The Office of Management and Budget Guidelines to Agencies on Government-wide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The Supplemental Priorities.

Note: The regulations in 34 CFR part 86 apply to IHEs only.

II. Award Information

Type of Award: Discretionary grants.

Estimated Available Funds: The Further Continuing and Security Assistance Appropriations Act, 2017, would provide, on an annualized basis, $735,998,203, of which we intend to use an estimated $20,000,000 for this competition. The actual level of funding, if any, depends on final congressional action. However, we are inviting applications to allow enough time to complete the grant process if Congress appropriated funds for this program. Contingent upon the availability of funds and the quality of applications, we may make additional awards in FY 2018 or later years from the list of unfunded applicants from this competition.

Estimated Range of Awards: $350,000-550,000.

Estimated Average Size of Awards: $450,000.

Maximum Award: $550,000 per year.

Estimated Number of Awards: 44.

Note: The Department is not bound by any estimates in this notice.

Project Period: 60 months.

III. Eligibility Information

1. Eligible Applicants: Entities eligible to apply for NPD grants are IHEs, or public or private entities with relevant experience and capacity, in consortia with LEAs or SEAs.

2. Cost Sharing or Matching: This program does not require cost sharing or matching.

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA 84.365Z.

Individuals with disabilities can obtain a copy of the application package in an accessible format (e.g., braille, large print, audiotape, or compact disc) by contacting the person listed under Accessible Format in section VIII of this notice.

2. a. Content and Form of Application Submission: Requirements concerning the content of an application, together with the forms you must submit, are in the application package for this competition.

Notice of Intent to Apply: March 13, 2017.

We will be able to develop a more efficient process for reviewing grant applications if we know the approximate number of applicants that intend to apply for funding under this competition. Therefore, the Secretary strongly encourages each potential applicant to notify us of the applicant's intent to submit an application by emailing NPD2017@ed.gov with the subject line “Intent to Apply” and include in the content of the email the following information: (1) The applicant organization's name and address, and (2) any competitive preference priority or priorities and invitational priority or priorities the applicant is addressing in the application. Applicants that do not provide notice of their intent to apply may still submit an application.

Page Limit: The application narrative (Part III of the application) is where you, the applicant, address the selection criteria that reviewers use to evaluate your application. We recommend that you limit the application narrative to no more than 35 pages. Applicants are also strongly encouraged not to include lengthy appendices that contain information that they were unable to include within the page limits for the narrative.

Applicants must use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the application does not apply to Part I, the cover sheet; Part II, the budget section, including the narrative budget justification; Part IV, the assurances and certifications; or the one-page abstract, the bibliography, or the letters of support of the application. However, the page limit does apply to all of the application narrative section [Part III] of the application.

b. Submission of Proprietary Information: Given the types of projects that may be proposed in applications for the NPD program, your application may include business information that you consider proprietary. In 34 CFR 5.11 we define “business information” and describe the process we use in determining whether any of that information is proprietary and, thus, protected from disclosure under Exemption 4 of the Freedom of Information Act (5 U.S.C. 552, as amended).

Consistent with the process followed in the prior NPD competitions, we may post the project narrative section of funded NPD applications on the Department's Web site so you may wish to request confidentiality of business information. Identifying proprietary information in the submitted application will help facilitate this public disclosure process.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Notice of Intent to Apply: March 13, 2017.

Informational Meetings: The NPD program intends to hold Webinars designed to provide technical assistance to interested applicants. Detailed information regarding these meetings will be provided on the NPD Web site at http://www2.ed.gov/programs/nfdp/applicant.html.

Deadline for Transmittal of Applications: April 24, 2017.

Applications for grants under this competition must be submitted electronically using the Grants.gov application site. For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: June 21, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you entered into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants for the NPD program must be submitted electronically unless you qualify for an exception to this requirement in accordance with the instructions in this section.

a. Electronic Submission of Applications.

Applications for grants under the NPD program, CFDA number 84.365Z, must be submitted electronically using the Grants.gov Apply site (Grants.gov). Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the NPD program at www.Grants.gov. You must search for the downloadable application package for this competition by the CFDA number. Do not include the CFDA number's alpha suffix in your search (e.g., search for 84.365, not 84.365Z).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, Portable Document Format (PDF). Do not upload an interactive or fillable PDF file (e.g., Word, Excel, WordPerfect, etc.). If you upload a file type other than a read-only, PDF or submit a password-protected file, we will not review that material. Please note that this could result in your application not being considered for funding because the material in question—for example, the project narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Patrice Swann, U.S. Department of Education, 400 Maryland Avenue SW., Room 5C144, Washington, DC 20202-6510. FAX: (202) 260-5496.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.365Z), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.365Z), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from section 34 CFR 75.210. The maximum score for all of these criteria is 100 points (not including competitive preference priority points). The maximum score for each criterion is indicated in parentheses.

(a) Quality of the project design. (up to 45 points).

The Secretary considers the quality of the design of the proposed project. In determining the quality of the design of the proposed project, the Secretary considers the following factors:

(1) The extent to which the goals, objectives, and outcomes to be achieved by the proposed project are clearly specified and measurable.

(2) The extent to which the design for implementing and evaluating the proposed project will result in information to guide possible replications of project activities or strategies including information about the effectiveness of the approach or strategies employed by the project.

(3) The extent to which the proposed project is supported by strong theory (as defined in this notice).

(b) Quality of project personnel. (up to 10 points).

The Secretary considers the quality of the personnel who will carry out the proposed project. In determining the quality of project personnel, the Secretary considers the following factors:

(1) The extent to which the applicant encourages applications for employment from persons who are members of groups that have traditionally been underrepresented based on race, color, national origin, gender, age, or disability

(2) The qualifications, including relevant training and experience, of the project director or principal investigator.

(3) The qualifications, including relevant training and experience, of key project personnel.

(c) Quality of the management plan. (up to 25 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitment of the project director and principal investigator and other key project personnel are appropriate and adequate to meet the objectives of the proposed project.

(d) Quality of the project evaluation. (up to 20 points).

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation will, if well implemented, produce evidence about the project's effectiveness that would meet the What Works Clearinghouse Evidence Standards with reservations.

(3) The extent to which the methods of evaluation will provide performance feedback and permit periodic assessment of progress toward achieving intended outcomes.

(4) The extent to which the methods of evaluation will provide valid and reliable performance data on relevant outcomes.

Note: The following are technical assistance resources on evaluation: (1) WWC Procedures and Standards Handbook: http://ies.ed.gov/ncee/wwc/references/idocviewer/doc.aspx?docid=19&tocid=1; and (2) IES/NCEE Technical Methods papers: http://ies.ed.gov/ncee/tech_methods.

In addition, we invite applicants to view two Webinar recordings that were hosted by the Institute of Education Sciences. The first Webinar addresses strategies for designing and executing well-designed quasi-experimental design studies. This Webinar is available at: http://ies.ed.gov/ncee/wwc/Multimedia.aspx?sid=23. The second Webinar focuses on more rigorous evaluation designees, including strategies for designing and executing randomized controlled trials. This Webinar is available at: http://ies.ed.gov/ncee/wwc/Multimedia.aspx?sid=18.

2. Review and Selection Process: The Department will screen applications that are submitted for NPD grants in accordance with the requirements in this notice and determine which applications meet the eligibility and other requirements. Peer reviewers will review all eligible applications for NPD grants that are submitted by the established deadline.

Applicants should note, however, that we may screen for eligibility at multiple points during the competition process, including before and after peer review; applicants that are determined to be ineligible will not receive a grant award regardless of peer reviewer scores or comments. If we determine that an NPD grant application does not meet an NPD requirement, the application will not be considered for funding.

For NPD grant applications, the Department intends to conduct a two-part review process to review and score all eligible applications. Content reviewers will review and score all eligible applications on the following three selection criteria: (a) Quality of the project design; (b) Quality of project personnel; and (c) Quality of the management plan. These reviewers will also review and score the second competitive preference priority. Peer reviewers with evaluation expertise will review and score selection criterion (d) Quality of the project evaluation.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to http://www.ed.gov/fund/grant/apply/appforms.html.

(c) The Secretary may provide a grantee with additional funding for data collection, analysis, and reporting. In this case the Secretary establishes a data collection period.

4. Performance Measures: Under the Government Performance and Results Act (GPRA), Federal departments and agencies must clearly describe the goals and objectives of programs, identify resources and actions needed to accomplish goals and objectives, develop a means of measuring progress made, and regularly report on achievement.

(a) Measures. The Department has developed the following GPRA performance measures for evaluating the overall effectiveness of the NPD program:

Measure 1: The number and percentage of program participants who complete the preservice program. Completion is defined by the applicant in the submitted application.

Measure 2: The number and percentage of program participants who complete the inservice program. Completion is defined by the applicant in the submitted application.

Measure 3: The number and percentage of program completers, as defined by the applicant under measures 1 and 2, who are State certified, licensed, or endorsed in EL instruction.

Measure 4: The percentage of program completers who rate the program as effective in preparing them to serve EL students.

Measure 5: The percentage of school leaders, other educators, and employers of program completers who rated the program as effective in preparing their teachers, or other educators, to serve ELs or improve their abilities to serve ELs effectively.

Measure 6: For projects that received competitive preference points for Competitive Priority 2, the percentage of program completers who rated the program as effective, as defined by the grantees, in increasing their knowledge and skills related to parent, family, and community engagement.

(b) Baseline data. Applicants must provide baseline (as defined in this notice) data for each of the project performance measures listed in (a) and explain how each proposed baseline data is related to program outcomes; or, if the applicant has determined that there are no established baseline data for a particular performance measure, explain why there is no established baseline and explain how and when, during the project period, the applicant will establish a baseline for the performance measure.

(c) Performance measure targets. In addition, the applicant must propose in its application annual targets for the measures listed in paragraph (a). Applications must also include the following information as directed under 34 CFR 75.110(b):

(1) Why each proposed performance target is ambitious (as defined in this notice) yet achievable compared to the baseline for the performance measure.

(2) The data collection and reporting methods the applicant would use and why those methods are likely to yield reliable, valid, and meaningful performance data; and

(3) The applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

(d) Performance Reports. All grantees must submit an annual performance report and final performance report with information that is responsive to these performance measures. The Department will consider this data in making annual continuation awards.

(e) Department Evaluations. Consistent with 34 CFR 75.591, grantees funded under this program shall comply with the requirements of any evaluation of the program conducted by the Department or an evaluator selected by the Department.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Samuel Lopez, U.S. Department of Education, 400 Maryland Avenue SW., Room 5C152, Washington, DC 20202. Telephone: (202) 401-4300. FAX: (202) 205-1229 or by email at NPD2017@ed.gov.

If you use a TDD or a TTY, call the Federal Relay Service, toll free, at 1-800-877-8339.

VIII. Other Information

Accessible Format: Individuals with disabilities can obtain this document and a copy of the application package in an accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: February 15, 2017.
Supreet Anand,
Deputy Director Office of English Language Acquisition.

[FR Doc. 2017-03367 Filed 2-17-17; 8:45 am]

BILLING CODE 4000-01-P